DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Licensing of Private Remote-Sensing Space Systems.

OMB Control Number: 0648-0174.

Form Number(s): NA.

Type of Request: Regular submission.

Number of Respondents: 18.

Average Hours per Response: License application, 40 hours; data protection plan, 10 hours; plan describing how the licensee will comply with data collection restrictions, 5 hours; operations plan for restricting collection or dissemination of imagery of Israeli territory, data flow diagram and final imaging system specifications document, operational quarterly report, 3 hours each; satellite sub-systems drawings, public summary for a licensed system, preliminary design review, critical design review, foreign agreement notification, spacecraft operational information submitted when a spacecraft becomes operational, notification of deviation in orbit or spacecraft disposition, notification of any operational deviation, notification of planned purges of information to the National Satellite Land Remote Sensing Data Archive, notification of the demise of a system or a decision to discontinue system operations, 2 hours each; notification of a binding launch services contract and notification of completion of pre-ship review, 1 hour each; license amendment and annual operational audit, 10 hours each; annual compliance audit, 8 hours.

Burden Hours: 552.

Needs and Uses: This request is for an extension of a current information collection.

NOAA has established requirements for the licensing of private operators of remote-sensing space systems. The information in applications and subsequent reports is needed to ensure compliance with the Land Remote-Sensing Policy Act of 1992 and with the national security and international obligations of the United States. The requirements are contained in 15 CFR part 960.

Affected Public: Business or other for-profit organizations.

Frequency: Annually, quarterly and on occasion.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: September 24, 2013.
Gwellnar Banks,
Management Analyst, Office of the Chief Information Officer.

[FR Doc. 2013-23558 Filed 9-26-13; 8:45 am]

BILLING CODE 3510-HR-P